FEDERAL TRADE COMMISSION

Agency Information Collection Activities; Submission for OMB Review; Comment Request

AGENCY: Federal Trade Commission (“Commission” or “FTC”).

ACTION: Notice.

SUMMARY: The FTC intends to conduct an evaluation of Admongo, its advertising literacy program for children ages 8-12. The evaluation will involve a randomized controlled trial of the Admongo program involving 6,000-8,000 students. This research will be conducted to further the FTC's mission of protecting consumers from unfair and deceptive marketing. The information collection requests described below are being submitted to the Office of Management and Budget for review, as required by the Paperwork Reduction Act (“PRA”).

DATES: Comments must be submitted on or before September 4, 2012.

ADDRESSES: Interested parties may file a comment online or on paper, by following the instructions in the Request for Comment sub-part of the SUPPLEMENTARY INFORMATION section below. Write “Admongo Evaluation, FTC File No. P085200” on your comment, and file your comment online at https://ftcpublic.commentworks.com/ftc/admongoevaluationPRA2, by following the instructions on the Web-based form. If you prefer to file your comment on paper, mail or deliver your comment to the following address: Federal Trade Commission, Office of the Secretary, Room H-113 (Annex J), 600 Pennsylvania Avenue NW., Washington, DC 20580.

FOR FURTHER INFORMATION CONTACT: Requests for additional information should be addressed to David Givens, Economist, Bureau of Economics, Federal Trade Commission, 600 Pennsylvania Avenue NW., Mail Stop NJ-4136, Washington, DC 20580. Telephone: (202) 326-3397.

SUPPLEMENTARY INFORMATION:

I. Background

As the nation's consumer protection agency, the FTC is responsible for enforcing laws that prohibit unfair and deceptive advertising and marketing practices. Part of this mission involves educating consumers, including young consumers. In April 2010, the FTC launched a youth-directed multi-media advertising literacy campaign called Admongo and distributed accompanying lesson plans to 100,000 educators in every U.S. public school with a fifth or sixth grade class. Admongo aims to help children from 8 to 12 become more discerning consumers of information. The program has three broad objectives: (1) Raising awareness of advertising and marketing messages; (2) teaching critical thinking skills that will allow children to better analyze and interpret advertisements; and (3) demonstrating the benefits of being an informed consumer. The program teaches students specific skills: How to identify ads, how to identify the ways advertisers target certain groups of consumers, how to spot persuasive techniques commonly employed by ads, and how to apply an understanding of advertising techniques to make smarter purchases. The campaign includes an online game, in-school lesson plans, sample ads that can be used at home and in the classroom, and teacher videos. All materials can be viewed at www.admongo.gov.

The proposed evaluation will test a large group of students in these skills and then compare the performance of those who have been exposed to the Admongo curriculum with those who have not. The results will give the FTC valuable insight into the optimal design of youth-directed consumer education. Specifically, the FTC is interested in: Pre-existing levels of ad literacy by age, the average effect of the Admongo program on ad literacy, and the variation in Admongo's effect by age and other demographic and academic characteristics.¹ The FTC also intends to interview teachers who have used the Admongo lessons in their classrooms. Teacher feedback will help us tailor the lessons to real-world classroom conditions.

¹ All student-level data will be stripped of personally identifiable information by participating school districts before it reaches the FTC.

II. Paperwork Reduction Act

Under the PRA, 44 U.S.C. 3501-3521, federal agencies must get OMB approval for each collection of information they conduct or sponsor. “Collection of information” means agency requests or requirements that members of the public to submit reports, keep records, or provide information to a third party. 44 U.S.C. 3502(3), 5 CFR 1320.3(c).

On December 2, 2011, the FTC sought public comment on the information collection requests associated with the proposed Admongo evaluation study.² No comments were received. Pursuant to the OMB regulations, 5 CFR part 1320, that implement the PRA, the Commission is providing this second opportunity for public comment.

² 76 FR 75549.

As required by section 3506(c)(2)(A) of the PRA, the FTC is providing this opportunity for public comment while pursuing OMB approval for the Admongo study.

The FTC invites comments on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information.

A. Description of the Collection of Information and Proposed Use

Subject to OMB approval, the FTC will conduct a randomized trial of the Admongo program in one or more school districts, involving 6,000-8,000 students ages 8-12. Classrooms in each participating school will be randomly assigned to treatment or control status. In the treatment classrooms, the Admongo lesson plans will be taught over the course of one week, and students will be given in-class time to play the online Admongo game. At the end of the trial, treatment students will take a test in advertising literacy. Students in the control classrooms will take the same test before they are exposed to Admongo.³ Admongo's effect on ad literacy will be estimated from the difference in test scores. Additional controls measuring classroom, student, and teacher characteristics will increase the precision of the estimate of Admongo's impact.

³ With this protocol, the FTC gets a valid control group while still providing all experiment participants the benefit of the treatment.

B. Estimated Burden Hours

Each student's typical social studies or language arts teacher will teach the Admongo lessons. The paper-based test will last approximately 20 minutes. The time required to experience the Admongo lessons, play the online game, and take the test should total approximately five hours and twenty minutes per student (four 45-minute in-class lessons, one hour of online game playing, one hour of homework assignments, and 20 minutes for the test). With an estimated 6,000-8,000 students involved,⁴ cumulative burden for students will be in the range of 32,000-42,667 hours. Teachers will require the same time per task as students, but will also need time for lesson planning—estimated at four hours per teacher. Thus, with an estimated 240-320 teachers involved,⁵ their time commitment, will range from 2,240 to 2,987 hours. The combined time for the Admongo trial should thus fall in the range of 34,240-45,654 hours.

⁴ Based on an anticipated school district's participation and its approximate student composition at present.

⁵ Based on an estimated class size of 25 students and assuming a unique teacher for each classroom. [6,000 ÷ 25 = 240; 8,000 ÷ 25 = 320]

These estimates likely overstate the actual time burden of the study. The Admongo lesson plans, tied to national standards of learning, will satisfy pre-existing content requirements for participating schools.⁶ Thus, the incremental PRA burden for teachers and students would be much less than the estimates shown above.⁷ For example, if only the time required to take or administer the 20-minute test is considered, the resulting total would be a small fraction of the totals noted above.

⁶ See http://www.admongo.gov/state-standards/.

⁷ See 5 CFR 1320.3(b)(2)(A) (a collection of information incurred by persons in the normal course of their activities is excluded from “burden” to the extent that the activities necessary to comply with it are “usual and customary”).

A few participating teachers (20-40) also will take part in focus group discussions, lasting approximately 90 minutes. The estimated teacher time in focus groups, including an added hour of round-trip transportation to and from the discussion site, is 50-100 hours. Finally, administering the study will impose a small time burden on school district staff charged with scoring the tests and with compiling a master data set of 8-12 year-old students, stripped of personally identifiable information (to facilitate random assignment to treatment and control groups). These programming and data management tasks should take approximately 10-15 hours.

The cumulative burden for participating students, teachers, and school district staff for the Admongo evaluation will total 34,300-45,769 hours. Again, however, the bulk of this time would be subsumed within pre-existing classroom requirements.

C. Estimated Costs

The cost per respondent should be negligible in both the evaluation and focus group components of the study. The participation of the school district in the evaluation is voluntary, and the district will use the Admongo program to meet curriculum requirements. Thus, participation in the evaluation study will not impose any start-up, capital, or labor expenditures beyond those ordinarily incurred by the district to administer curriculum units. Participation by students in the evaluation and teachers in the focus groups also will be voluntary and not impose any start-up, capital, or labor expenditures. Teachers participating in the focus groups will be compensated at the standard rate paid by the contractor to focus group participants. The school district will be compensated for the cost of the staff time to perform the data management and test-scoring tasks.

D. Request for Comment

You can file a comment online or on paper. For the Commission to consider your comment, we must receive it on or before September 4, 2012. Write “Admongo Evaluation, FTC File No. P085200” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, don't include any “[t]rade secret or any commercial or financial information which is obtained from any person and which is privileged or confidential,” as provided in Section 6(f) of the FTC Act, 15 U.S.C. 46(f), and FTC Rule 4.10(a)(2), 16 CFR 4.10(a)(2). In particular, don't include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c).⁸ Your comment will be kept confidential only if the FTC General Counsel, in his or her sole discretion, grants your request in accordance with the law and the public interest.

⁸ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://ftcpublic.commentworks.com/ftc/admongoevaluationPRA2, by following the instructions on the Web-based form. If this Notice appears at http://www.regulations.gov/#!home, you also may file a comment through that Web site.

If you file your comment on paper, write “Admongo Evaluation, FTC File No. P085200” on your comment and on the envelope, and mail or deliver it to the following address: Federal Trade Commission, Office of the Secretary, Room H-113 (Annex J), 600 Pennsylvania Avenue NW., Washington, DC 20580. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before September 4, 2012. You can find more information, including routine uses permitted by the Privacy Act, in the Commission's privacy policy, at http://www.ftc.gov/ftc/privacy.htm.

Willard K. Tom,
General Counsel.

[FR Doc. 2012-18846 Filed 8-1-12; 8:45 am]

BILLING CODE 6750-01-P